DEPARTMENT OF COMMERCE

International Trade Administration

[A-533-840]

Certain Frozen Warmwater Shrimp From India: Final Results of Antidumping Duty Changed Circumstances Review

AGENCY: Import Administration, International Trade Administration, Department of Commerce.

DATES: Effective Date: August 27, 2010.

SUMMARY: On July 28, 2010, the Department of Commerce (the Department) published a notice of preliminary results of changed circumstances review of the antidumping duty order on certain frozen warmwater shrimp (shrimp) from India. See Certain Frozen Warmwater Shrimp From India: Final Results of Antidumping Duty Changed Circumstances Review, 75 FR 44229 (July 28, 2010) (Preliminary Results). In that notice, we preliminarily determined that Srikanth International (Srikanth) is the successor-in-interest to NGR Aqua International (NGR) for purposes of determining antidumping liability. No interested party submitted comments on, or requested a public hearing to discuss, the Preliminary Results. Therefore, for these final results, the Department continues to find that Srikanth is the successor-in-interest to NGR.

FOR FURTHER INFORMATION CONTACT: Blaine Wiltse; AD/CVD Operations, Office 2, Import Administration, International Trade Administration, U.S. Department of Commerce, 14th Street and Constitution Avenue, NW., Washington, DC 20230; telephone: (202) 482-6345.

SUPPLEMENTARY INFORMATION:

Background

On February 3, 2010, Srikanth requested that the Department conduct an expedited changed circumstances review under 19 CFR 351.221(c)(3)(iii) to determine whether it is the successor-in-interest to NGR for purposes of determining antidumping liability. On April 1, 2010, the Department initiated a changed circumstances review but did not expedite the review, as requested by Srikanth, because questions remained regarding the completeness of the factual statements forming the basis of Srikanth's changed circumstances review request. See Certain Frozen Warmwater Shrimp From India: Initiation of Antidumping Duty Changed Circumstances Review, 75 FR 16436 (Apr. 1, 2010).

On April 19 and June 3, 2010, we requested further information and documentation from Srikanth to substantiate its claim to be the successor-in-interest to NGR. Srikanth submitted this information on May 6 and June 17, 2010, respectively. On July 28, 2010, the Department preliminarily determined that Srikanth is the successor-in-interest to NGR for purposes of determining antidumping liability. See Preliminary Results, 75 FR at 44230. In the Preliminary Results, we provided all interested parties with an opportunity to comment or request a public hearing regarding our finding that Srikanth is the successor-in-interest to NGR. We received no comments or requests for a public hearing from interested parties within the time period set forth in the Preliminary Results.

Scope of the Order

The scope of this order includes certain frozen warmwater shrimp and prawns, whether wild-caught (ocean harvested) or farm-raised (produced by aquaculture), head-on or head-off, shell-on or peeled, tail-on or tail-off,¹ deveined or not deveined, cooked or raw, or otherwise processed in frozen form.

¹ “Tails” in this context means the tail fan, which includes the telson and the uropods.

The frozen warmwater shrimp and prawn products included in the scope of this order, regardless of definitions in the Harmonized Tariff Schedule of the United States (HTSUS), are products which are processed from warmwater shrimp and prawns through freezing and which are sold in any count size. The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTSUS subheading 1605.20.10.20); (2) shrimp and prawns generally classified in the Pandalidae family and commonly referred to as coldwater shrimp, in any state of processing; (3) fresh shrimp and prawns whether shell-on or peeled (HTSUS subheadings 0306.23.00.20 and 0306.23.00.40); (4) shrimp and prawns in prepared meals (HTSUS subheading 1605.20.05.10); (5) dried shrimp and prawns; (6) canned warmwater shrimp and prawns (HTSUS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Final Results of Changed Circumstances Review

For the reasons stated in the Preliminary Results, and because we received no comments from interested parties to the contrary, the Department continues to find that Srikanth is the successor-in-interest to NGR. As a result of this determination, we find that Srikanth should receive the cash deposit rate previously assigned to NGR in the most recently completed review of the antidumping duty order on shrimp from India. See Certain Frozen Warmwater Shrimp From India: Final Results of Antidumping Duty Administrative Review, Partial Rescission of Review, and Notice of Revocation of Order in Part, 75 FR 41813, 41816 (Jul. 19, 2010). Consequently, the Department will instruct U.S. Customs and Border Protection to suspend liquidation of all shipments of subject merchandise produced and exported by Srikanth and entered, or withdrawn from warehouse, for consumption on or after the publication date of this notice in the Federal Register at 2.67 percent, which is the current cash deposit rate for NGR. See, e.g., Final Results of Antidumping Duty Changed Circumstances Review: Certain Circular Welded Non-Alloy Steel Pipe and Tube From Mexico, 74 FR 41681, 41682 (Aug., 18, 2009). This cash deposit requirement shall remain in effect until further notice.

We are issuing this determination and publishing these final results and notice in accordance with sections 751(b)(1) and 777(i)(1) and (2) of the Tariff Act of 1930, as amended, and 19 CFR 351.216 and 351.221(c)(3).

Dated: August 23, 2010.
Ronald K. Lorentzen,
Deputy Assistant Secretary for Import Administration.

[FR Doc. 2010-21418 Filed 8-26-10; 8:45 am]

BILLING CODE 3510-DS-P